DEPARTMENT OF COMMERCE

National Oceanic and Atmospheric Administration

RIN 0648-XA670

Schedules for Atlantic Shark Identification Workshops and Protected Species Safe Handling, Release, and Identification Workshops; Correction

AGENCY: National Marine Fisheries Service (NMFS), National Oceanic and Atmospheric Administration (NOAA), Commerce.

ACTION: Notice of public workshops; Correction.

SUMMARY: NMFS announces that the address for the Atlantic Shark Identification workshop scheduled for November 17, 2011, in Charleston, SC, has been changed. This workshop was originally announced on September 27, 2011. The new address remains within the vicinity of Charleston, SC, but the workshop will be held at another venue. The workshop time and date remain unchanged: 12 p.m. to 4 p.m. on November 17, 2011. The October and December workshop locations remain unchanged. Atlantic Shark Identification workshops are mandatory for Atlantic Shark Dealer permit holders or their proxies. Additional free workshops will be held in 2011 and 2012.

DATES: The address for the Atlantic Shark Identification Workshop scheduled for November 17, 2011, in Charleston, SC, has changed. See SUPPLEMENTARY INFORMATION for further details.

ADDRESSES: The address of the Atlantic Shark Identification workshop in Charleston, SC, has been changed. See SUPPLEMENTARY INFORMATION for further details.

FOR FURTHER INFORMATION CONTACT: Richard A. Pearson of the Highly Migratory Species Management Division at (727) 824-5399.

SUPPLEMENTARY INFORMATION:

Correction

In the Federal Register (Doc. 2011-24835) of September 27, 2011, on page 59661, in the third column, correct the location of the second Atlantic Shark Identification workshop listed under the heading “Workshop Dates, Times, and Locations” to read:

“2. November 17, 2011, 12 p.m.-4 p.m., Hampton Inn & Suites, 1104 Isle of Palms Connector, Mt. Pleasant, SC 29464.”

Dated: October 12, 2011.
Steven Thur,
Acting Director, Office of Sustainable Fisheries, National Marine Fisheries Service.

[FR Doc. 2011-26794 Filed 10-14-11; 8:45 am]

BILLING CODE 3510-22-P